DEPARTMENT OF THE TREASURY

Alcohol and Tobacco Tax and Trade Bureau

27 CFR Part 9

[Docket No. TTB-2014-0007; Notice No. 145A; Re: Notice No. 145]

RIN 1513-AC10

Proposed Expansion of the Sta. Rita Hills Viticultural Area; Comment Period Extension

AGENCY: Alcohol and Tobacco Tax and Trade Bureau, Treasury.

ACTION: Notice of proposed rulemaking; extension of comment period.

SUMMARY: The Alcohol and Tobacco Tax and Trade Bureau is extending the comment period for Notice No. 145, Proposed Expansion of the Sta. Rita Hills Viticultural Area, a notice of proposed rulemaking published in the Federal Register on August 7, 2014, for an additional 60 days. TTB is taking this action in response to a request from an interested party.

DATES: The comment period for the proposed rule published on August 7, 2014 (79 FR 46204), has been extended. Written comments on Notice No. 145 are now due on or before December 5, 2014.

ADDRESSES: You may send comments on Notice No. 145 to one of the following addresses:

• http://www.regulations.gov (via the online comment form for Notice No. 145 as posted within Docket No. TTB-2014-0007 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200E, Washington, DC 20005.

See the Public Participation section of this notice for specific instructions and requirements for submitting comments, and for information on how to request a public hearing.

You may view copies of the petition, selected supporting materials, Notice No. 145, and all public comments associated with this proposal within Docket No. TTB-2014-0007 at http://www.regulations.gov. You also may view copies of the petition, the supporting materials, Notice No. 145, and all public comments associated with this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Box 12, Washington, DC 20005; telephone 202-453-1039, ext. 175.

SUPPLEMENTARY INFORMATION: In Notice No. 145, a notice of proposed rulemaking published in the Federal Register on August 7, 2014 (79 FR 46204), the Alcohol and Tobacco Tax and Trade Bureau (TTB) requested public comment on the proposed expansion of the approximately 33,380-acre “Sta. Rita Hills” American viticultural area (27 CFR 9.162) in Santa Barbara County, California. The proposed expansion would increase the AVA by approximately 2,296 acres and would move the northeastern boundary of the AVA east to a north-to-south canyon known as the “Cañada de los Palos Blancos,” located west of Buellton. The proposed expansion area contains three commercial vineyards, two of which are currently divided by the existing AVA boundary. The 60-day comment period for Notice No. 145 was originally scheduled to close on October 6, 2014.

On August 18, 2014, TTB received a letter from the chairman of the Sta. Rita Hills Winegrowers Alliance requesting a 90-day extension of the comment period for Notice No. 145 in order to allow more time for industry members to submit comments. The letter states that many local grape growers and winemakers are in the process of bottling previous vintages and preparing for harvest and thus do not have adequate time to prepare and submit comments before the end of the comment period. This request is posted as Comment 20 within Docket No. TTB-2014-0007 at www.regulations.gov.

In response to this request, TTB extends the comment period for Notice No. 145 for an additional 60 days. Therefore, comments on Notice No. 145 are now due on or before December 5, 2014. TTB believes that an additional 60 days is an adequate extension of the comment period and is consistent with previous comment period extensions TTB has granted. TTB does not believe a 90-day extension is necessary because neither Notice No. 145 nor the petition and its supporting materials are voluminous or unusually complex, and a 60-day extension will extend the comment period deadline well past the peak of the typical harvest period.

Drafting Information

Karen A. Thornton of the Regulations and Rulings Division drafted this notice.

Dated: August 26, 2014.
John J. Manfreda,
Administrator.

[FR Doc. 2014-20929 Filed 9-2-14; 8:45 am]

BILLING CODE 4810-31-P